FEDERAL ELECTION COMMISSION

Sunshine Act Notices

AGENCY: Federal Election Commission.

DATE & TIME: Thursday, January 15, 2004 at 10 A.M.

PLACE: 999 E Street, NW., Washington, DC (Ninth Floor).

STATUS: This meeting will be open to the public.

ITEMS TO BE DISCUSSED: Correction and Approval of Minutes. Discussion of Regulations Priorities for 2004. Routine Administrative Matters.

FOR FURTHER INFORMATION CONTACT: Robert Biersack, Deputy Press Officer, Telephone: (202) 694-1220.

Mary W. Dove,
Secretary of the Commission.

[FR Doc. 04-659 Filed 1-8-04; 11:26 am]

BILLING CODE 6715-01-M